GENERAL SERVICES ADMINISTRATION

[OMB Control No. 3090-0248; Docket No. 2021-0001; Sequence No. 6]

Submission for OMB Review; General Services Administration Acquisition Regulation; Solicitation Provisions and Contract Clauses; Placement of Orders Clause; and Ordering Information Clause

AGENCY: Office of Acquisition Policy, General Services Administration (GSA).

ACTION: Notice of request for public comments regarding an extension to an existing OMB clearance.

SUMMARY: Under the provisions of the Paperwork Reduction Act, the Regulatory Secretariat Division will be submitting to the Office of Management and Budget (OMB) a request to review and approve an extension of a previously approved information collection requirement regarding solicitation provisions and contract clauses, placement of orders clause, and ordering information clause.

DATES: Submit comments on or before: November 1, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Vernita Misidor, Procurement Analyst, GSA Acquisition Policy Division, by phone at 202-357-9681 or by email at vernita.misidor@gsa.gov.

SUPPLEMENTARY INFORMATION:

A. Purpose

GSA has various mission responsibilities related to the acquisition and provision of the Federal Acquisition Service's (FAS's) Stock, Special Order, and Federal Supply Schedule (FSS) Programs. These mission responsibilities generate requirements that are realized through the solicitation and award of various types of FAS contracts. Individual solicitations and resulting contracts may impose unique information collection and reporting requirements on contractors, not required by regulation, but necessary to evaluate particular program accomplishments and measure success in meeting program objectives.

As such, the General Services Administration Acquisition Regulation (GSAR) 516.506, Solicitation provision and clauses, specifically directs contracting officers to insert 552.216-72, Placement of Orders, and 552.216-73, Ordering Information, when the contract authorizes FAS and other activities to issue delivery or task orders. These clauses include information reporting requirements for Offerors to receive electronic orders through computer-to-computer Electronic Data Interchange (EDI).

B. Annual Reporting Burden

Respondents: 18,590.

Responses per Respondent: 1.

Annual Responses: 18,590.

Hours per Response: .25.

Total Burden Hours: 4,648.

C. Public Comments

A 60-day notice was published in the Federal Register at 86 FR 39023 on July 23, 2021. No comments were received.

Obtaining Copies of Proposals: Requesters may obtain a copy of the information collection documents from the Regulatory Secretariat Division by calling 202-501-4755 or emailing GSARegSec@gsa.gov. Please cite OMB Control No. 3090-0248, Solicitation Provisions and Contract Clauses, Placement of Orders Clause, and Ordering Information Clause, in all correspondence.

Jeffrey A. Koses,
Senior Procurement Executive, Office of Acquisition Policy, Office of Government-wide Policy.

[FR Doc. 2021-21274 Filed 9-29-21; 8:45 am]

BILLING CODE 6820-14-P